DEPARTMENT OF AGRICULTURE

Agricultural Marketing Service

[ Document No. AMS-FV-09-0049; FV-09-329]

United States Standards for Grades of Refried Beans

AGENCY: Agricultural Marketing Service, USDA.

ACTION: Notice; withdrawal.

SUMMARY: The Agricultural Marketing Service (AMS) is withdrawing a notice soliciting comments on the possible establishment of voluntary United States Standards for Grades of Refried Beans. After reviewing and considering industry input, the Agency has decided not to proceed further with this action.

DATES: Effective Date: July 23, 2010.

FOR FURTHER INFORMATION CONTACT: Lydia E. Berry, Inspection and Standardization Section, Processed Products Branch (PPB), Fruit and Vegetable Programs (FV), AMS, USDA, 1400 Independence Avenue, SW., Room 0709, South Building; STOP 0247, Washington, DC 20250; phone: (202) 720-5021; fax: (202) 690-1527.

Background

A trade association representing the processed food industry requested that USDA develop grade standards for canned refried beans to be used by the industry. AMS prepared a discussion draft of the proposed canned refried beans standards using information provided by the petitioner, and distributed copies to the trade association's members for comments. Input from the trade association's members was used to further develop the proposed grade standards.

Prior to undertaking additional research and other work associated with the establishment of official standards, a notice was published at 69 FR 40857 in the Federal Register soliciting comments on the proposed establishment of voluntary grade standards for canned refried beans. One comment was received from a food manufacturer as a result of that request. A copy of the comment is posted at http://www.regulations.gov and on the AMS Web site at: http://www.ams.usda.gov/processedinspection.

The commenter favored the development of the grade standards if AMS increased its scope to include dehydrated refried beans. AMS then discussed the proposed expansion of the standards to include the dehydrated refried beans with the original petitioner, the National Food Processors Association, now known as the Grocery Manufacturers Association (GMA). The GMA informed AMS that the association no longer supported development of any standards for refried beans. One company still expressed interest in development of the grade standards or refried beans. However, additional input from the company was not forthcoming.

Given these circumstances, AMS will not proceed further with this action.

Authority: 7 U.S.C. 1621-1627.

Dated: July 20, 2010.
Rayne Pegg,
Administrator, Agricultural Marketing Service.

[FR Doc. 2010-18084 Filed 7-22-10; 8:45 am]

BILLING CODE 3410-02-P